DEPARTMENT OF COMMERCE

International Trade Administration

(C-580-857)

Notice of Amended Preliminary Countervailing Duty Determination: Coated Free Sheet Paper from the Republic of Korea

AGENCY: Import Administration, International Trade Administration, Department of Commerce.

SUMMARY: On April 9, 2007, the Department of Commerce (“the Department”) published in the Federal Register the notice of preliminary affirmative countervailing duty determination in the investigation of coated free sheet (“CFS”) paper from the Republic of Korea (“Korea”). We are amending our preliminary determination to correct ministerial errors discovered with respect to the countervailing duty rate calculation for Hansol Paper Co., Ltd. (“Hansol”). This correction also affects the countervailing duty rate applied to all other companies not individually investigated.

EFFECTIVE DATE: May 8, 2007.

FOR FURTHER INFORMATION CONTACT: Maura Jeffords or Robert Copyak, AD/CVD Operations, Office 3, Import Administration, International Trade Administration, U.S. Department of Commerce, Room 4014, 14th Street and Constitution Avenue NW, Washington, DC 20230; telephone: (202) 482-3146 and (202) 482-2209, respectively.

SUPPLEMENTARY INFORMATION:

Background

On April 9, 2007, we published in the Federal Register the preliminary determination that countervailable subsidies are being provided to producers and exporters of CFS paper from Korea, as provided in section 703 of the Tariff Act of 1930, as amended (“the Act”). See Coated Free Sheet Paper From the Republic of Korea: Preliminary Affirmative Countervailing Duty Determination, 72 FR 17507 (April 9, 2007). On April 9, 2007, Hansol filed timely allegations of significant ministerial errors contained in the Department's preliminary determination. After reviewing the allegations, we have determined that the preliminary determination included significant ministerial errors. Therefore, in accordance with 19 CFR 351.224(e), we have made changes, as described below, to the preliminary determination.

Scope of Investigation

The merchandise covered by this investigation includes coated free sheet paper and paperboard of a kind used for writing, printing or other graphic purposes. Coated free sheet paper is produced from not-more-than 10 percent by weight mechanical or combined chemical/mechanical fibers. Coated free sheet paper is coated with kaolin (China clay) or other inorganic substances, with or without a binder, and with no other coating. Coated free sheet paper may be surface-colored, surface-decorated, printed (except as described below), embossed, or perforated. The subject merchandise includes single- and double-side-coated free sheet paper; coated free sheet paper in both sheet or roll form; and is inclusive of all weights, brightness levels, and finishes. The terms “wood free” or “art” paper may also be used to describe the imported product.

Excluded from the scope are: (1) coated free sheet paper that is imported printed with final content printed text or graphics; (2) base paper to be sensitized for use in photography; and (3) paper containing by weight 25 percent or more cotton fiber.

Coated free sheet paper is classifiable under subheadings 4810.13.1900, 4810.13.2010, 4810.13.2090, 4810.13.5000, 4810.13.7040, 4810.14.1900, 4810.14.2010, 4810.14.2090, 4810.14.5000, 4810.14.7040, 4810.19.1900, 4810.19.2010, and 4810.19.2090 of the Harmonized Tariff Schedule of the United States (“HTSUS”). While HTSUS subheadings are provided for convenience and customs purposes, our written description of the scope of this investigation is dispositive.

Analysis of Alleged Significant Ministerial Errors

A ministerial error is defined in 19 CFR 351.224(f) as “an error in addition, subtraction, or other arithmetic function, clerical error resulting from inaccurate copying, duplication, or the like, and any other similar type of unintentional error which the Secretary considers ministerial.” With respect to preliminary determinations, 19 CFR 351.224(e) provides that the Department “will analyze any comments received and, if appropriate, correct any significant ministerial error by amending the preliminary determination. . . .” A significant ministerial error is defined as an error, the correction of which, singly or in combination with other errors, would result in (1) a change of at least five absolute percentage points in, but not less than 25 percent of, the countervailable subsidy rate calculated in the original (erroneous) preliminary determination; or (2) a difference between a countervailable subsidy rate of zero (or de minimis) and a countervailable subsidy rate of greater than de minimis or vice versa. See 19 CFR 351.224(g). We have determined that the preliminary determination contained “significant” ministerial errors with respect to Hansol. As a result, the Department is publishing this amendment to its preliminary determination pursuant to 19 CFR 351.224(e).

Amended Preliminary Determination

Because the combined errors alleged by Hansol regarding the countervailable subsidy rate calculation for Hansol were significant, we have amended the preliminary countervailing duty rate calculations for Hansol. See Memorandum to Stephen J. Claeys, Deputy Assistant Secretary for Import Administration, from the Team, AD/CVD Operations, Office 3, regarding Allegations of Ministerial Errors in the Calculations for the Preliminary Determination, dated April 30, 2007.¹ In addition, we have amended the “All Others” rate applicable to companies that were not individually investigated. As a result of corrections of ministerial errors, the countervailable subsidy rates are as follows:

¹ This public document is available on the public record in the Department's Central Records Unit (room B-099).

Producer/Exporter | Original Subsidy Rate | Amended Subsidy Rate
EN Paper | 0.08 ad valorem | 0.08 ad valorem
Hansol | 1.76 ad valorem | 0.89 ad valorem
Kyesung (and its affiliate Namhan) | 0.59 ad valorem | 0.59 ad valorem
Moorim (and its affiliate Moorim SP) | 0.04 ad valorem | 0.04 ad valorem
All Others Rate | 1.76 ad valorem | de minimis

The collection of bonds or cash deposits and suspension of liquidation will be revised accordingly and parties will be notified of this determination, in accordance with section 703(d) and (f) of the Act. Specifically, since the amended preliminary determination is negative, we are directing U.S. Customs and Border Protection (“CBP”) to terminate suspension of liquidation of all entries of the subject merchandise from Korea.

International Trade Commission Notification

In accordance with section 703(f) of the Act, we have notified the International Trade Commission (“ITC”) of our amended preliminary determination. If our final determination is affirmative, the ITC will make its final determination as to whether the domestic industry in the United States is materially injured, or threatened with material injury, by reason of imports of CFS paper, or sales (or the likelihood of sales) for importation, of the subject merchandise within 75 days of our final determination.

This determination is issued and published in accordance with sections 703(f) and 777(i)(1) of the Act and 19 CFR 351.224(e).

Dated: April 30, 2007.
David M. Spooner,
Assistant Secretary for Import Administration.

[FR Doc. E7-8792 Filed 5-7-07; 8:45 am]

BILLING CODE 3510-DS-S